DEPARTMENT OF AGRICULTURE

Forest Service

Siskiyou County Resource Advisory Committee

AGENCY: Forest Service, USDA.

ACTION: Notice of meeting.

SUMMARY: The Siskiyou County Resource Advisory Committee (RAC) will meet in Yreka, California, June 18, 2007. The meeting will include routine business and discussion of future project submissions for RAC funding.

DATES: The meeting will be held June 18, 2007, from 4 p.m. until 6 p.m.

ADDRESSES: The meeting will be held at the Yreka High School Library, Preece Way, Yreka, California.

FOR FURTHER INFORMATION CONTACT: Bob Talley, Forest RAC coordinator, Klamath National Forest, (530) 841-4423 or electronically at rtalley@fs.fed.us.

SUPPLEMENTARY INFORMATION: The meeting is open to the public. Public comment opportunity will be provided and individuals will have the opportunity to address the Committee at that time.

Dated: June 1, 2007.
Margaret J. Boland,
Designated Federal Official.

[FR Doc. 07-2828 Filed 6-6-07; 8:45 am]

BILLING CODE 3410-11-M